DEPARTMENT OF TRANSPORTATION

Federal Aviation Administration

[Docket No. FAA-2020-0115]

Agency Information Collection Activities: Requests for Comments; Clearance of Renewed Approval of Information Collection: Aviation Research Grants Program

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 17, 2020. The collection involves information to be collected will be used to and/or is necessary for the purpose of the review, and administration of grants in accordance with applicable Government-wide, and Agency regulations, policies, and procedures.

DATES: Written comments should be submitted by October 1, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Trina M. Bellamy by email at: trina.bellamy@faa.gov; phone: 609-485-7483.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0559.

Title: Aviation Research Grants Program.

Form Numbers: SF-272, 9550-5, SF-424, SF-3881, SF-269, SF-270.

Type of Review: Renewal.

Background: The Federal Register Notice with a 60-day comment period soliciting comments on the following collection of information was published on April 17, 2020 (85 FR 21499). The Aviation Research Grants Program utilizes grant awards to support advanced research in areas of potential benefit to the long-term growth of civil aviation, and in areas related to the prevention of catastrophic failure of an aircraft. The objective of this program is to encourage and support innovative, advanced, and applied research and development in areas of potential benefit to the long-term growth of civil aviation. This program implements 2 CFR 200, Uniform Administrative Requirements, Cost Principles, and Audit Requirements for Federal Awards; Federal Aviation Administration Research, Engineering and Development Authorization Act of 1990, Public Law 101-508; 49 U.S.C. 44511: Aviation research grants. Submission requirements, instructions, and a list of documentation required for applying for a grant is outlined in the Aviation Research Grant Program Notice of Funding Opportunity (NOFO) number FAA-12-01, posted on www.grants.gov. Eligible benefactors include colleges, universities, and non-profit research institutions. This collection removes common forms SF-424 and SF-425.

Respondents: Colleges, Universities, Non-profit research institutions.

Frequency: On occasion.

Estimated Average Burden per Response: 5 Hours.

Estimated Total Annual Burden: 5 hours per respondent.

Issued in Fort Worth, TX on August 27, 2020.
Barbara Hall,
FAA Information Collection Officer, Performance, Policy & Records Management Branch, ASP-110.

[FR Doc. 2020-19243 Filed 8-31-20; 8:45 am]

BILLING CODE 4910-13-P